FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (e-mail) matt.miller@fema.gov.

SUPPLEMENTARY INFORMATION: The Federal Emergency Management Agency makes the final determinations listed below of modified base flood elevations for each community listed. These modified elevations have been published in newspapers of local circulation and ninety (90) days have elapsed since that publication. The Associate Director has resolved any appeals resulting from this notification.

The modified base flood elevations are not listed for each community in this notice. However, this rule includes the address of the Chief Executive Officer of the community where the modified base flood elevation determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act. This rule is categorically excluded from the requirements of 44 CFR part 10, Environmental Consideration. No environmental impact assessment has been prepared.

Regulatory Flexibility Act. The Associate Director, Mitigation Directorate, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama:
Morgan (FEMA Docket No. 7313) | City of Decatur | January 25, 2000, February 1, 2000, The Decatur Daily News | The Honorable Julian Price, Mayor of the City of Decatur, P.O. Box 488, Decatur, Alabama 35602 | May 1, 2000 | 010176 D
Colbert (FEMA Docket No. D-7501) | City of Tuscumbia | February 11, 2000, February 18, 2000, Colbert County Reporter | The Honorable Jean McCormack, Mayor of the City of Tuscumbia, P.O. Box 29, Tuscumbia, Alabama 35674 | May 18, 2000 | 010049 D
Florida:
Charlotte (FEMA Docket No. 7309) | Unincorporated Areas | May 15, 2000, May 22, 2000, Sun Herald | Mr. Jan Winters, Charlotte County Administrator, 18500 Murdock Circle, Room 536, Port Charlotte, Florida 33948-1094 | May 8, 2000 | 120061 E
Orange (FEMA Docket No. D-7501) | Unincorporated Areas | May 17, 2000, May 24, 2000, The Orlando Sentinel | Dr. M. Krishnamurthy, P.E., Orange County Stormwater Management Department, 4200 South John Young Parkway, Orlando, Florida 32839-9205 | May 10, 2000 | 120179 D
Georgia:
Bartow (FEMA Docket No. 7309) | City of Cartersville | February 17, 2000, February 24, 2000, The Daily Tribune News | The Honorable Sam C. Smith, Mayor of the City of Cartersville, 1 North Erwin Street, P.O. Box 1390, Cartersville, Georgia 30120 | May 24, 2000 | 130209 F
Chatham (FEMA Docket No. 7309) | Unincorporated Areas | March 13, 2000, March 20, 2000, Savannah Morning News | Dr. Billy Hair, Chairman of the Chatham County Board of Commissioners, 124 Bull Street, P.O. Box 8161, Savannah, Georgia 31412 | June 18, 2000 | 130030 C
Gwinnett (FEMA Docket No. 7313) | Unincorporated Areas | January 12, 2000, January 19, 2000, Gwinnett Daily Post | Mr. Wayne Hill, Chairman of the Gwinnett County Board of Commissioners, 75 Langley Drive, Lawrenceville, Georgia 30045 | Dec. 29, 1999 | 130322 C
Chatham (FEMA Docket No. 7309) | Town of Pooler | March 13, 2000, March 20, 2000, Savannah Morning News | The Honorable Earl Carter, Mayor of the Town of Pooler, 100 Southwest Highway 80, Pooler, Georgia 31322 | June 18, 2000 | 130261 A
Cherokee (FEMA Docket No. D-7501) | City of Woodstock | May 17, 2000, May 24, 2000, Cherokee Tribune | The Honorable W. David Rogers, Mayor of the City of Woodstock, 103 Arnold Mill Road, Woodstock, Georgia 30188 | Aug. 22, 2000 | 130264 B
Illinois:
DuPage (FEMA Docket No. 7309) | Unincorporated Areas | March 10, 2000, March 17, 2000, Daily Herald | Mr. Robert J. Schillerstrom, Chairman, DuPage County Board, DuPage Center, 421 North County Farm Road, Wheaton, Illinois 60187 | Mar. 3, 2000 | 170197 B
Lake (FEMA Docket No. 7313) | Village of Green Oaks | August 12, 2000, August 19, 2000, The Daily Herald | Mr. Thomas Adams, President of the Village of Green Oaks, 14052 Petronella, Suite 102B, Green Oaks, Illinois 60048-1547 | July 18, 2000 | 170364 F
McHenry (FEMA Docket No. D-7503) | Village of Huntley | July 13, 2000, July 20, 2000, The Huntley Farmside | Mr. Charles Becker, President of the Village of Huntley, Village Hall, 11704 Coral Street, Huntley, Illinois 60142 | June 29, 2000 | 170480 C
Cook (FEMA Docket No. 7309) | Village of Indian Head Park | February 9, 2000, February 16, 2000, Suburban Life Citizen | Mr. Richard S. Pellegrino, President of the Village of Indian Head Park, 201 Acacia Drive, Indian Head Park, Illinois 60525 | Feb. 3, 2000 | 170110 D
Lake (FEMA Docket No. 7313) | Unincorporated Areas | April 12, 2000, April 19, 2000, The News-Sun | Mr. Jim LaBelle, Chairman of the Lake County Board, 18 North County Street, 10th Floor, Waukepan, Illinois 60085 | July 18, 2000 | 170357 F
Cook (FEMA Docket No. 7309) | Village of Schaumburg | February 9, 2000, February 16, 2000, Daily Herald | Mr. Al Larson, Schaumburg Village President, 101 Schaumburg Court, Schaumburg, Illinois 60193-1899 | Feb. 1, 2000 | 170158 D
Will and Cook (FEMA Docket No. 7309) | Village of Tinley Park | March 8, 2000, March 15, 2000, Daily Southtown | The Honorable Edward J. Zabrocki, Mayor of the Village of Tinley Park, 16250 South Oak Park Avenue, Tinley Park, Illinois 60477 | Mar. 31, 2000 | 170169 C
DuPage (FEMA Docket No. 7313) | Village of Winfield | March 30, 2000, April 6, 2000, The Winfield Press | Mr. John Kirschbaum, President of the Village of Winfield, 27 W. 465 Jewel Road, Winfield, Illinois 60190 | July 5, 2000 | 170223 C
Indiana:
Madison (FEMA Docket No. D-7503) | City of Anderson | June 28, 2000, July 5, 2000, The Herald Bulletin | The Honorable J. Mark Lawler, Mayor of the City of Anderson, 120 East Eighth Street, Anderson, Indiana 46016 | Oct. 4, 2000 | 180150 B
Marion (FEMA Docket No. 7313) | City of Indianapolis | April 5, 2000, April 12, 2000, The Indianapolis Star | The Honorable Barton Peterson, Mayor of the City of Indianapolis, 200 East Washington Street, Suite 2501, Indianapolis, Indiana 46204 | Mar. 30, 2000 | 180159 D
Michigan: Macomb (FEMA Docket No. 7313) | Charter Township of Clinton | March 31, 2000, April 7, 2000, The Macomb Daily | Mr. James Sinnamon, Charter Township of Clinton Supervisor, 40700 Romeo Plank Road, Clinton, Michigan 48038 | July 6, 2000 | 260121 E
North Carolina: Currituck (FEMA Docket No. D-7501) | Unincorporated Areas | June 30, 2000, July 7, 2000, The Daily Advance | Mr. William S. Richardson, Currituck County Manager, P.O. Box 39, Currituck, North Carolina 27929-0070 | Oct. 5, 2000 | 370078 C
Ohio:
Cuyahoga (FEMA Docket No. 7309) | City of Garfield Heights | March 16, 2000, March 23, 2000, Neighborhood News | The Honorable Thomas Longo, Mayor of the City of Garfield Heights, 5107 Turney Road, Garfield Heights, Ohio 44125 | June 21, 2000 | 390109 B
Pike (FEMA Docket No. 7313) | Unincorporated Areas | April 19, 2000, April 26, 2000, Pike County News Watchman | Mr. Charles Osborne, Chairman of the Pike County Commissioners, 100 East Second Street, Waverly, Ohio 45690 | July 25, 2000 | 390450 B
Shelby (FEMA Docket No. 7313) | Unincorporated Areas | February 10, 2000, February 17, 2000, The Sidney Daily News | Mr. Larry Klainhans, Chairman, Shelby County Board of Commissioners, 129 East Court Street, Suite 100, Sidney, Ohio 45365 | May 17, 2000 | 390503 C
Pike (FEMA Docket No. 7313) | City of Waverly | April 19, 2000, April 26, 2000, Pike County News Watchman | The Honorable William Kelly, Mayor of the City of Waverly, 201 West North Street, Waverly, Ohio 45690 | July 25, 2000 | 390452 B
Virginia: Prince William (FEMA Docket No. D-7501) | Unincorporated Areas | April 7, 2000, April 14, 2000, Potomac News | Mr. H.B. Ewert, Prince William County Executive, 1 County Complex Court, Prince William, Virginia 22192 | July 13, 2000 | 510119 D

(Catalog of Federal Domestic Assistance No. 83.100, “Flood Insurance”)
Dated: January 30, 2001.
Margaret E. Lawless,
Acting Executive Associate Director for Mitigation.

[FR Doc. 01-3921 Filed 2-15-01; 8:45 am]

BILLING CODE 6718-04-P